COMMITTEE FOR THE IMPLEMENTATION OF TEXTILE AGREEMENTS

Availability of the Correlation: Textile and Apparel Categories With the Harmonized Tariff Schedule of the United States for 2004

January 28, 2004.

AGENCY: The Committee for the Implementation of Textile Agreements (CITA)

ACTION: Notice.

FOR FURTHER INFORMATION CONTACT: Keith Daly, International Trade Specialist, Office of Textiles and Apparel, U.S. Department of Commerce, (202) 482-3400.

SUPPLEMENTARY INFORMATION: The Committee for the Implementation of Textile Agreements (CITA) announces that the 2004 Correlation, based on the Harmonized Tariff Schedule of the United States, will be available in January 2004 as part of the Office of Textiles and Apparel (OTEXA) CD-Rom publication.

The CD-Rom may be purchased from the U.S. Department of Commerce, Office of Textiles and Apparel, 14th and Constitution Avenue, NW., room H3100, Washington, DC 20230, ATTN: Yolanda Peterson, at a cost of $25. Checks or money orders should be made payable to the U.S. Department of Commerce. The Correlation is also available on the OTEXA website at http://otexa.ita.doc.gov.

James C. Leonard III,
Chairman, Committee for the Implementation of Textile Agreements.

[FR Doc. 04-2070 Filed 1-30-04; 8:45 am]

BILLING CODE 3510-DR-S